DEPARTMENT OF THE INTERIOR

Fish and Wildlife Service

Comprehensive Conservation Plan and Environmental Assessment for Rice Lake and Mille Lacs National Wildlife Refuges in East Central Minnesota and Horicon and Fox River National Wildlife Refuges (NWR) in Southeast Wisconsin

AGENCY: Fish and Wildlife Service, Interior.

ACTION: Notice of intent.

SUMMARY: This notice advises the public that the U.S. Fish and Wildlife Service (Service) intends to gather information necessary to prepare Comprehensive Conservation Plans (CCP) and Environmental Assessments (EA) for the following National Wildlife Refuges: Rice Lake NWR in Aitkin and Pine Counties, Minnesota and Mille Lacs NWR in Mille Lacs County, Minnesota, which are managed by Rice Lake NWR staff, and Horicon NWR in Dodge and Fond du Lac Counties, Wisconsin and Fox River NWR in Marquette County, Wisconsin, which are managed by Horicon NWR staff. The CCPs will describe how we intend to manage the refuges for the next 15 years.

The Service is furnishing this notice in compliance with the National Wildlife Refuge System Administration Act of 1966, as amended (16 U.S.C. 668dd et seq.), and the National Environmental Policy Act (NEPA).

Open house style meetings and possibly focus group meetings and workshops will be held during the scoping phase of the CCP development process to obtain additional suggestions and information on the scope of alternatives and impacts to be considered.

In addition, the Service is inviting comments on archeological, historic, and traditional cultural sites in accordance with the National Historic Preservation Act. Cultural resource overview studies will be conducted to identify known historic and cultural sites on the refuges.

Special mailings, newspaper articles, Internet postings, and other media announcements will inform people of the opportunities for written comments.

ADDRESSES: Comments for Rice Lake NWR or Mille Lacs NWR can be mailed to: Refuge Manager, Rice Lake National Wildlife Refuge, 36289 State Highway 65, McGregor, Minnesota 55760 or submit comments electronically at the following Web site: http://midwest.fws.gov/planning/ricelake/index.html.

Comments for Horicon NWR or Fox River NWR can be mailed to: Refuge Manager, Horicon National Wildlife Refuge, W4279 Headquarters Road, Mayville, Wisconsin 53050 or submit comments electronically at the following Web site: http://midwest.fws.gov/planning/horicon/index.html.

You may also find information on the CCP planning process and submit comments electronically at the planning Web site: http://midwest.fws.gov/planning/index.html or you may e-mail comments to: r3planning@fws.gov.

FOR FURTHER INFORMATION CONTACT: Mary Stefanski, Rice Lake NWR, at (218) 768-2402 or Patti Meyers, Horicon NWR, at (920) 387-2658.

SUPPLEMENTARY INFORMATION: The National Wildlife Refuge System Administration Act of 1966, as amended by the National Wildlife Refuge System Improvement Act of 1997 (16 U.S.C. 668dd-668ee et seq.) requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction on conserving wildlife and their habitats, the CCP identifies wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

By Federal law, all lands within the National Wildlife Refuge System are to be managed in accordance with an approved CCP. The CCP guides management decisions and identifies refuge goals, long-range objectives, and strategies for achieving refuge purposes. The CCP will provide other agencies and the public with a clear understanding of the desired conditions for the Refuge and how the Service will implement management strategies.

The CCP planning process will consider many elements, including wildlife and habitat management, habitat protection and acquisition, wilderness preservation, public recreational activities, and cultural resource preservation. Public input into this planning process is essential.

The Service will prepare an Environmental Assessment (EA) in accordance with procedures for implementing NEPA found in the Departmental Manual 516 DM 6, Appendix 1.

Review of this project will be conducted in accordance with the requirements of the National Environmental Policy Act of 1969, as amended (42 U.S.C. 4321 et seq.), NEPA Regulations (40 CFR 1500-1508), other appropriate Federal laws and regulations, and Service policies and procedures for compliance with those regulations.

Dated: January 7, 2005.
Charles M. Wooley,
Acting Regional Director, U.S. Fish and Wildlife Service, Fort Snelling, Minnesota, Region 3.

[FR Doc. 05-2083 Filed 2-2-05; 8:45 am]

BILLING CODE 4310-55-P